DEPARTMENT OF TRANSPORTATION

Federal Aviation Administration

14 CFR Part 39

[Docket No. 2001-SW-50-AD]

RIN 2120-AA64

Airworthiness Directives; Eurocopter France Model EC120B, EC155B, SA330F, SA330G, SA330J, AS332C, AS332L, AS332L1, AS332L2, AS350B, AS350BA, AS350B1, AS350B2, AS350B3, AS350D, AS355E, AS355F, AS355F1, AS355F2, AS355N, AS365N2, AS365N3, SA-365N, and SA-365N1 Helicopters

AGENCY: Federal Aviation Administration, DOT.

ACTION: Notice of proposed rulemaking (NPRM).

SUMMARY: This document proposes adopting a new airworthiness directive (AD) for the specified Eurocopter France (ECF) helicopters. That proposal would require determining the load release unit (cargo hook) serial number, measuring the clearance between the locking catch and the cargo hook, and removing unairworthy cargo hooks from service. This proposal is prompted by the discovery of a defect on certain cargo hooks that may prevent load release. The actions specified by this proposed AD are intended to prevent failure of a cargo hook to release a load, creating an additional hazard in an emergency situation and subsequent loss of control of a helicopter.

DATES: Comments must be received on or before June 10, 2002.

ADDRESSES: Submit comments in triplicate to the Federal Aviation Administration (FAA), Office of the Regional Counsel, Southwest Region, Attention: Rules Docket No. 2001-SW-50-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-50-AD.” The postcard will be date stamped and returned to the commenter.

Availability of NPRMs

Any person may obtain a copy of this NPRM by submitting a request to the FAA, Office of the Regional Counsel, Southwest Region, Attention: Rules Docket No. 2001-SW-50-AD, 2601 Meacham Blvd., Room 663, Fort Worth, Texas 76137.

Discussion

The Direction Generale De L'Aviation Civile (DGAC), the airworthiness authority for France, notified the FAA that an unsafe condition may exist on various ECF model helicopters. The DGAC advises of the discovery of an anomaly on the locking catch of certain cargo hooks that could jam the ring on the cargo hook and jeopardize the release of an underslung load.

ECF has issued Alert Telexes 01.00.47, 01.00.49, 01.00.53, 01.00.60, 01.00.66, 04A001, and 04A004, dated July 10, 2001, which specify measuring the clearance between the locking catch and the cargo hook and the acceptable dimension of the ring. The telexes state that the clearance, as illustrated in their Figure 1, must be less than 14 millimeters (mm) (0.55 inches). The DGAC classified these telexes as mandatory and issued AD 2001-318(A), dated July 25, 2001, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other helicopters of these same type designs registered in the United States. Therefore, the proposed AD would require, before the next flight utilizing the cargo hook, measuring the clearance between the locking catch and the cargo hook, and removing any cargo hook from service if that clearance is equal to or greater than 14mm (0.55 inches).

The FAA estimates that 725 helicopters of U.S. registry would be affected by this proposed AD. The FAA estimates that it would take approximately 1/4 work hour to determine the serial number of the part, 1 hour to measure the gap between the locking catch and the cargo hook for an estimated 50 helicopters, and 1 hour to remove and replace each of an estimated 10 cargo hooks. The average labor rate is estimated to be $60 per work hour. Required parts would cost approximately $5,000. Based on these figures, the total cost impact of the proposed AD on U.S. operators is estimated to be $64,475 assuming 10 cargo hooks require replacement.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2001-SW-50-AD.

Applicability: Model EC120B, EC 155B, SA330F, SA330G, SA330J, AS332C, AS332L, AS332L1, AS332L2, AS350B, AS350BA, AS350B1, AS350B2, AS350B3, AS350D, AS355E, AS355F, AS355F1, AS355F2, AS355N, AS-365N2, AS-365N3, SA-365N, and SA-365N1 helicopters, with a SIREN load release unit (cargo hook), part number (P/N) AS21-5-1 through -7, and a cargo hook serial number less than 415, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before the next flight utilizing the cargo hook, unless accomplished previously.

To prevent failure of a cargo hook, inability to release a load creating an additional hazard in an emergency situation, and subsequent loss of control of a helicopter, accomplish the following:

(a) With the cargo hook in the no-load position, measure the clearance “J” in accordance with Figure 1 of this AD. Remove any cargo hook if clearance “J” (see Figure 1) is equal to or greater than 14 millimeters (0.55 inches).

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits will not be issued allowing use of the affected cargo hook.

Note 3: The subject of this AD is addressed in Direction Generale De L'Aviation Civile, (France) AD 2001-318(A), dated July 25, 2001.

Issued in Fort Worth, Texas, on April 2, 2002.
Eric Bries,
Acting Manager, Rotorcraft Directorate, Aircraft Certification Service.

[FR Doc. 02-8596 Filed 4-9-02; 8:45 am]

BILLING CODE 4910-13-U